ENVIRONMENTAL PROTECTION AGENCY

[EPA-HQ-OA-2006-0080; FRL-8289-2]

Agency Information Collection Activities; Submission to OMB for Review and Approval; Comment Request; Valuing Reduced Asthma Episodes for Adults and Children—Focus Groups; EPA ICR No. 2215.01

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request for a new collection. The ICR, which is abstracted below, describes the nature of the information collection and its estimated burden and cost.

DATES: Additional comments may be submitted on or before April 18, 2007.

ADDRESSES: Submit your comments, referencing Docket ID No. EPA-HQ-OA-2006-0080, to (1) EPA online using www.regulations.gov (our preferred method), by e-mail to oei.docket@epa.gov, or by mail to: EPA Docket Center, Environmental Protection Agency, Office of Environmental Information (OEI) Docket, Mail Code 28221T, 1200 Pennsylvania Ave., NW., Washington, DC 20460, and (2) OMB by mail to: Office of Information and Regulatory Affairs, Office of Management and Budget (OMB), Attention: Desk Officer for EPA, 725 17th Street, NW., Washington DC 20503.

FOR FURTHER INFORMATION CONTACT: Dr. Chris Dockins, Office of Policy, Economics and Innovation, Environmental Protection Agency, Mail Code 1809T, 1200 Pennsylvania Ave. NW., Washington DC 20460; telephone number 202-566-2286; fax number 202-566-2338; e-mail address: dockins.chris@epa.gov.

SUPPLEMENTARY INFORMATION: EPA has submitted the following ICR to OMB for review and approval according to the procedures prescribed in 5 CFR 1320.12. On February 3, 2006 (71 FR 5834), EPA sought comments on this ICR pursuant to 5 CFR 1320.8(d). EPA received one non-substantial comment during the comment period. Any additional comments on this ICR should be submitted to EPA and OMB within 30 days of this notice.

EPA has established a public docket for this ICR under Docket ID No. EPA-HQ-OA-2006-0080, which is available for online viewing at www.regulations.gov, or in person viewing at the Office of Environmental Information (OEI) Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Office of Environmental Information (OEI) Docket is 202-566-1752.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, CBI, or other information whose public disclosure is restricted by statute. For further information about the electronic docket, go to www.regulations.gov.

Title: Valuing Reduced Asthma Episodes for Adults and Children—Focus Groups.

ICR numbers: EPA ICR No. 2215.01.

ICR Status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: Asthma is one of the most common chronic illnesses in the United States, particularly among children. The disease is characterized by recurring episodes of symptoms like cough, shortness of breath, and wheezing. Epidemiological studies suggest that ambient air pollution may contribute to exacerbation of these episodes. Acute asthma episodes are a leading cause of work and school absence and contribute to the economic burden of the disease. The policies and programs of many public and private entities including EPA may affect the frequency and severity of asthma episodes, but economic analysis of these programs is hindered by inadequate information about the economic benefits of reduced asthma episodes. The proposed surveys would gather information to support estimation of willingness to pay (WTP) to avoid acute episodes of asthma exacerbation for adults and children.

The survey research has three main objectives. The first is to estimate WTP to reduce frequency of asthma episodes. The second is to examine how the “attributes” of asthma episodes, such as their frequency, severity and symptoms, affect WTP. The third is to provide some evidence on the WTP to reduce the severity of asthma episodes, while holding frequency constant. WTP would be estimated in the context of the severity of the individual's asthma and the activities taken to manage the disease. The results will help to provide researchers and policy analysts with evidence on the potential benefits of actions policies that influence acute asthma episodes.

Through a cooperative agreement from EPA (R-83062801-0), researchers at the University of Central Florida (UCF) have designed and are proposing to conduct two surveys of adult individuals. One survey would be administered to a sample of adults with physician-diagnosed asthma who have experienced asthma symptoms during the 12 months preceding the survey. One survey focuses on eliciting adults' WTP to reduce the asthma episodes that they experience. A related survey would be administered to a sample of parents of children with physician-diagnosed asthma who have experienced asthma symptoms during the 12 months preceding the survey. In this case, the focus is on eliciting parents' WTP to reduce the asthma episodes that their children experience.

The purpose of the proposed ICR is to gain approval for the conduct of a series of focus groups and individual interviews as part of the survey development process. Focus groups and cognitive interviews are a crucial component in the survey development process as they allow survey developers to identify problematic approaches, terminology, and graphics in the survey instrument. A total of 50 interviews are anticipated, including focus group responses and individual interviews.

Burden Statement: The annual public reporting and recordkeeping burden for this collection of information is estimated to average 2 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

The only burden imposed by the interviews on respondents will be the time required to participate in focus group discussions and answer interview questions. The survey developers estimate that this will require an average of 2 hours per respondent. With a total of 50 respondents this requires a total of 100 hours. Based on an average hourly rate of $27.31, including employer costs of all employee benefits, the survey developers expect that the average per-respondent cost for the pilot survey will be $54.62 and the corresponding one-time total cost to all respondents will be $2,731.00 (Employer costs per hour worked for employee compensation and costs as a percent of total compensation: Civilian workers, total compensation, December 2006 http://stats.bls.gov/news.release/ecec.t02.htm). Since this information collection is voluntary and does not involve any special equipment, respondents will not incur any capital or operation and maintenance (O&M) costs.

Respondents/Affected Entities: Individuals or Households.

Estimated Number of Respondents: 50.

Frequency of Response: One-time.

Estimated Total Annual Hour Burden: 100.

Estimated Total Annual Cost: $2,731.00, includes $0 annualized capital or O&M costs.

Dated: March 12, 2007.
Oscar Morales,
Director, Collection Strategies Division.

[FR Doc. E7-4931 Filed 3-16-07; 8:45 am]

BILLING CODE 6560-50-P